DEPARTMENT OF EDUCATION

Applications for New Awards; Technical Assistance and Dissemination To Improve Services and Results for Children With Disabilities—National Technical Assistance Center on Improving Transition to Postsecondary Education and Employment for Students With Disabilities

AGENCY: Office of Special Education and Rehabilitative Services, Department of Education.

ACTION: Notice.

Overview Information: Technical Assistance and Dissemination to Improve Services and Results for Children with Disabilities—National Technical Assistance Center on Improving Transition to Postsecondary Education and Employment for Students with Disabilities; Notice inviting applications for a new award for fiscal year (FY) 2014.

Catalog of Federal Domestic Assistance (CFDA) Number: 84.326E.

Dates: Applications Available: July 2, 2014.

Deadline for Transmittal of Applications: August 18, 2014.

Full Text of Announcement

I. Funding Opportunity Description

Purpose of Program: The purpose of the Technical Assistance and Dissemination to Improve Services and Results for Children with Disabilities program is to promote academic achievement and to improve results for children with disabilities by providing technical assistance (TA), supporting model demonstration projects, disseminating useful information, and implementing activities that are supported by scientifically based research.

Priority: In accordance with 34 CFR 75.105(b)(2)(v), this priority is developed from allowable activities specified in the Individuals with Disabilities Education Act (IDEA) (see sections 663 and 681(d) of IDEA, 20 U.S.C. 1463 and 1481(d)) and section 303(b) of the Rehabilitation Act of 1973, as amended (Rehabilitation Act), 29 U.S.C. 793(b). Under 34 CFR 373.6, the Secretary has the authority to fund these allowable activities under the Rehabilitation Act by publishing this notice in the Federal Register.

Absolute Priority: For FY 2014 and any subsequent year in which we make awards from the list of unfunded applicants from this competition, this priority is an absolute priority. Under 34 CFR 75.105(c)(3), we consider only applications that meet this priority.

This priority is: National Technical Assistance Center on Improving Transition to Postsecondary Education and Employment for Students with Disabilities.

Background: The purpose of this priority is to jointly fund a cooperative agreement to establish and operate a National Technical Assistance Center on Improving Transition to Postsecondary Education and Employment for Students with Disabilities (Center). The Center will assist State educational agencies (SEAs), local educational agencies (LEAs), State vocational rehabilitation (VR) agencies, and other VR service providers to implement evidence-based and promising practices and strategies to ensure that students with disabilities,¹ including those with significant disabilities, graduate from high school with the knowledge, skills, and supports needed for success in postsecondary education and employment.

¹ For the purposes of this priority, the term “students with disabilities”, has the same meaning as the term “child with a disability” in IDEA. Under section 602(3)(A) of IDEA, the term “child with a disability” means a child— (i) with intellectual disabilities [see P.L. 111-256, Section 2(b)(2)(A), Oct. 5, 2010; 124 Stat. 2643], hearing impairments (including deafness), speech or language impairments, visual impairments (including blindness), serious emotional disturbance (referred to in this title as emotional disturbance), orthopedic impairments, autism, traumatic brain injury, other health impairments, or specific learning disabilities; and (ii) who, by reason thereof, needs special education and related services. (20 U.S.C. 1401(3)(A).) [Section 602 of IDEA is 20 U.S.C. 1401.]

Too many students with disabilities continue to experience difficulty in completing high school programs and gaining the content knowledge, work experiences, and other career-readiness skills and preparation needed to succeed as they transition from secondary education to postsecondary education and employment (Wagner, Newman, Cameto, Levine, & Garza, 2006). According to data from the National Longitudinal Transition Study-2 (NLTS-2), there are considerable gaps in achievement in the core academic subjects between students with disabilities and their non-disabled peers (Newman, Wagner, Cameto, Knokey, & Shaver, 2010). These gaps in achievement also manifest themselves in lower attainment and persistence rates for students with disabilities. According to the National Center for Education Statistics (2014), in 2012, 80 percent of students graduated high school with a regular diploma in four years, whereas, for students with disabilities, the four-year cohort graduation rate was 61 percent. According to data from the NLTS-2, in the 2009-2010 school year, 21 percent of students with disabilities dropped out of high school and only 45.6 percent of students with disabilities enrolled in some form of postsecondary education within four years of leaving high school (Newman et al., 2010).

Young adults with disabilities are also more likely to be unemployed and live in poverty than young adults without disabilities. The U.S. Bureau of Labor Statistics (BLS) reported that, in 2012, only 28.8 percent of people with a disability ages 20-24 were employed. In contrast, 62.7 percent of people without disabilities ages 20-24 were employed (U.S. Department of Labor, 2013). Given the lower rates of educational achievement and attainment, as well as the lower rates of employment, it is not surprising that people with disabilities were more likely to live in poverty than people without disabilities. In the 2010 Census, approximately 28.6 percent of people aged 15 to 64 with severe disabilities were living in poverty, while only 17.9 percent of adults with nonsevere disabilities and 14.3 percent of people without disabilities were living in poverty (U.S. Census Bureau, 2010). Based on the high incidence of unemployment and poverty experienced by students with disabilities after exiting high school, it is critically important for the Department of Education (Department) to fund a Center that will assist SEAs, LEAs, State VR agencies, and other VR service providers to equip these students with the necessary content knowledge, work experience, and other career-readiness skills that will prepare them for postsecondary education and employment.

To improve post-school outcomes for students with disabilities, SEAs, LEAs, State VR agencies, and other VR service providers need to implement evidence-based and promising practices and strategies designed to prepare students with disabilities for postsecondary education and employment. Research suggests that enrollment in more rigorous, academically intense programs (e.g., Advanced Placement (AP), International Baccalaureate (IB) or dual enrollment) in high school can prepare students, including those with low achievement levels, to enroll and persist in postsecondary education at higher rates than similar students who pursue less challenging courses of study (Adelman, 2006; College Board, 2010; Karp, Calcagno, Hughes, Jeong, & Bailey, 2007; Tierney, Bailey, Constantine, Finkelstein, & Hurd, 2009). In addition, the use of context-based approaches in which academic content and career and technical education curricula are integrated has resulted in improved student performance on standardized measures of math and literacy achievement (Pearson et al., 2010; Stone, Alfeld, Pearson, Lewis, & Jensen, 2006).

For students with disabilities to be career-ready, they also need effective transition services. Effective transition services are directly linked to better post-school outcomes for students with disabilities (National Alliance for Secondary Education and Transition (NASET), 2005; Test, Fowler, et al., 2009; Test, Mazzotti, et al., 2009). Researchers have identified evidence-based and promising practices for transition services (e.g., teaching employment skills using community-based instruction, ensuring that students have paid work experiences, encouraging and facilitating self-directed individualized education programs (IEPs), teaching parents and families about transition, and structuring programs to extend services beyond secondary school) that help to improve student outcomes and better prepare students for postsecondary education and employment (Cobb & Alwell, 2009; NASET, 2005; Test, Fowler, et al., 2009; Test, Mazzotti, et al., 2009). Further research indicates that LEAs and schools can implement and scale-up evidence-based practices with fidelity when proper supports, such as professional development, ongoing consultation and coaching for key staff, regular evaluation of staff performance, and data-based decision-making, are in place (Fixsen, Naoom, Blase, Friedman, & Wallace, 2005; Klingner, Boardman, & McMaster, 2013). Finally, the literature on transition and postsecondary success for students with disabilities emphasizes the need for SEAs, LEAs, State VR agencies, and other VR service providers to work together, along with other service providers, to ensure the delivery and implementation of effective transition services (Landmark, Ju, & Zhang, 2010; National Council on Disability, 2008; U.S. Government Accountability Office, 2012).

Ultimately, it is essential that students with disabilities complete high school. Research indicates that the most powerful predictors of whether a student will complete high school include: Attendance, academic achievement, suspensions, poor behavior grades, and status variables (special education and English learners) (Balfanz, Herzog, & Mac Iver, 2007). As a result, some States and districts have implemented a systematic collection of student attendance, behavior, and course performance data that is used to develop an early warning system to predict whether a student is likely to drop out of high school. Based on the “early warning,” strategies are put in place to reduce the likelihood of a student dropping out. The use of an early warning system is particularly important as students with disabilities, especially those with serious emotional disabilities, are at high risk of dropping out of school and less likely to graduate and transition to postsecondary education and employment (Losen & Skiba, 2010; Wagner, Newman, Cameto, Garza, & Levine, 2005).

In order for students with disabilities to graduate from high school and successfully transition to postsecondary education and employment, SEAs, LEAs, and State VR agencies must provide the necessary preparation, services, and supports. The Office of Special Education Programs (OSEP) previously funded TA centers to assist States in providing some of these supports. (For further information, please see the following Web sites: www.npso.org; www.ndpc-sd.org; and www.nsttac.org.) Also, the National VR Transition Network, sponsored by the Technical Assistance and Continuing Education (TACE) Centers (funded by the Rehabilitation Services Administration (RSA)) and the Council of State Administrators of Vocational Rehabilitation (CSAVR), connects transition practitioners in all parts of the country in order to problem-solve and share resources and effective VR transition practices. (For further information, please see the following Web site: http://tacesoutheast.org/network/transition/national_transition.php).

To further support States in their efforts to be accountable for the outcomes of students with disabilities and also assist these students in achieving grade-level standards, OSEP has developed a Results-Driven Accountability (RDA) system that requires all States to develop a State Systemic Improvement Plan (SSIP) ² that will incorporate strategies to produce improved outcomes for students with disabilities. States will need TA to support the implementation of their SSIP strategies to increase graduation rates and improve transition to postsecondary education and employment for students with disabilities.

² For more information about the SSIP, see page 18 of the Part B Measurement Table under “Forms and Instructions” at www.regulations.gov/#!docketDetail;D=ED-2013-ICCD-0047. For more information about RDA, see http://www2.ed.gov/about/offices/list/osers/osep/rda/index.html.

In addition, RSA uses the annual information reported by State VR agencies on the outcomes and services received by individuals with disabilities who exit the VR program (RSA 911 Case Service Report) to monitor agency performance, including the outcomes of transition-aged youth with disabilities who have IEPs. State VR agencies will need TA to help identify and implement effective practices and coordinate the delivery of services that will lead to improved employment outcomes for students with disabilities.

The Department is committed to the goal of ensuring that every student, including every student with a disability, has access to the necessary supports and services needed to graduate from high school with the essential knowledge and skills for success in postsecondary education and employment. In order to improve outcomes for students with disabilities, the Department is working to better coordinate its expertise and resources. Under this priority, OSEP and RSA are collaborating to support a TA Center that will help build the capacity of SEAs, LEAs, State VR agencies, and other VR service providers to implement evidence-based and promising practices and strategies to ensure that students with disabilities graduate from high school and are prepared for success in postsecondary education and employment.

Priority: The purpose of this priority is to fund a cooperative agreement to establish and operate a National Technical Assistance Center on Improving Transition to Postsecondary Education and Employment for Students with Disabilities (Center). The Center will assist SEAs, LEAs, State VR agencies, and other VR service providers to implement evidence-based and promising practices and strategies that ensure that students with disabilities, including those with significant disabilities, graduate from high school with the knowledge, skills, and supports needed for success in postsecondary education and employment.

The Center must achieve, at a minimum, the following outcomes:

(a) Increased participation of students with disabilities in rigorous academic coursework, including AP or IB courses and dual enrollment programs;

(b) Improved capacity of SEA, LEA, and State VR agency personnel, and other VR service providers to implement evidence-based and promising practices and strategies designed to increase the percentage of students with disabilities who meet challenging academic expectations in high school so that they are prepared for postsecondary education;

(c) Students with disabilities are prepared for postsecondary education through increased participation in postsecondary education preparation and access activities (e.g., participating in summer college orientation programs, preparing for and taking college admissions tests, learning how to advocate for their needs in the postsecondary setting, and collecting current evaluations to meet college disability documentation requirements);

(d) Increased understanding on the part of SEAs and LEAs of State-adopted high school academic standards and assessments as they relate to students with disabilities in order to tailor services to local context;

(e) Increased participation of students with disabilities in career-related curricula designed to develop the knowledge and skills needed for success in competitive integrated employment such as:

(1) Work-based learning experiences, including job shadowing, paid on-the-job training and internships, and structured career-related experiences, including supported or customized employment experiences;

(2) Career planning;

(3) Career awareness, exploration, and preparatory activities, including knowledge of careers that are aligned with labor-market trends and up-to-date job requirements;

(4) Employability and technical skills; and

(5) Community life (e.g., housing, transportation, and health management) and financial literacy skills needed to participate in postsecondary education and employment;

(f) Improved capacity of SEA, LEA, and State VR agency personnel and other VR service providers to implement evidence-based and promising practices and strategies designed to improve opportunities for students with disabilities to participate in the career-related curricula described under paragraph (e);

(g) Improved capacity of SEA, LEA, and State VR agency personnel and other VR service providers to implement evidence-based and promising secondary transition practices and strategies through:

(1) Ongoing consultation and coaching for educators and other VR service providers;

(2) Meetings and trainings for SEAs, LEAs, State VR agencies, and other VR service providers to coordinate and collaborate on transition-related issues; and

(3) Staff and program evaluation;

(h) Improved collaboration between SEAs, LEAs, State VR agencies, and other VR service providers in the following:

(1) Providing coordinated TA and services to families and students with disabilities;

(2) Transition planning, including specifying postsecondary goals and transition services in IEPs and individualized plans for employment (IPEs);

(3) Identifying roles and responsibilities and procedures for outreach; and

(4) Addressing all of the provisions in the formal interagency agreement between the SEA and State VR agency pursuant to section 101(a)(11)(D) of the Rehabilitation Act;

(i) Increased sharing and use of data and other information by SEAs, LEAs, State VR agencies, and other VR service providers—including State Performance Plan/Annual Performance Report Data on Indicators 1, 2, 13, and 14; VR Case Service Report (RSA 911) data on the VR services and outcomes of transition-aged youth with disabilities who have IEPs; and student-related information from the Summary of Performance required under Section 614(c)(5)(B)(ii) of IDEA—to support decision-making for program improvement related to transition and postsecondary components of the SSIP and strategies for improving employment outcomes outlined in VR State Plans;

(j) Improved capacity of SEA, LEA, and State VR agency personnel and other VR service providers to implement evidence-based and promising practices and strategies, including the use of early warning systems, designed to decrease high school dropout rates and increase graduation rates of students with disabilities, and strategies to increase the knowledge and use of self-advocacy skills, including the use of self-directed IEP processes by transition-aged youth; and

(k) Expanded dissemination of lessons learned from implementing evidence-based and promising practices and strategies to:

(1) Inform national, State, and local efforts to prevent students from dropping out of high school and facilitate successful graduation from high school; and

(2) Reduce the incidence of students with disabilities dropping out of high school.

In addition to these programmatic requirements, to be considered for funding under this priority, applicants must meet the application and administrative requirements in this priority. OSEP encourages innovative approaches to meet the following requirements:

(a) Demonstrate, in the narrative section of the application under “Significance of the Project,” how the proposed project will—

(1) Address the training and information needs of SEAs, LEAs, State VR agencies, and other VR service providers to implement evidence-based and promising practices and strategies that will prevent high school dropout and facilitate transition to postsecondary education and employment for students with disabilities. To meet this requirement, the applicant must—

(i) Present applicable national and State data demonstrating the training needs of SEAs, LEAs, State VR agencies, and other VR service providers to implement evidence-based and promising practices and strategies that will prepare students with disabilities for postsecondary education and employment; and

(ii) Demonstrate knowledge of current issues and policy initiatives relating to dropout prevention, secondary transition, postsecondary education, career preparation, and employment, including supported employment for students with disabilities; and

(2) Address the current and emerging needs of SEAs, LEAs, State VR agencies, and other VR service providers to implement SSIP strategies to increase graduation rates and improve transition to postsecondary education and employment for students with disabilities.

(b) Demonstrate, in the narrative section of the application under “Quality of the Project Services,” how the proposed project will—

(1) Ensure equal access and treatment for members of groups that have traditionally been underrepresented based on race, color, national origin, gender, age, or disability in accessing transition, postsecondary education, and employment. To meet this requirement, the applicant must describe how it will—

(i) Identify the needs of the intended recipients for TA and information; and

(ii) Ensure that services and products meet the needs of the intended recipients (e.g., by creating materials in formats and languages accessible to the stakeholders served by the intended recipients);

(2) Achieve its goals, objectives, and intended outcomes. To meet this requirement, the applicant must provide—

(i) Measurable intended project outcomes; and

(ii) The logic model by which the proposed project will achieve its intended outcomes;

(3) Use a conceptual framework to develop project plans and activities, describing any underlying concepts, assumptions, expectations, beliefs, or theories, as well as the presumed relationships or linkages among these variables, and any empirical support for this framework;

(4) Be based on current research and make use of evidence-based practices, strategies, and programs. To meet this requirement, the applicant must describe—

(i) The current research on the most effective ways to prepare students to participate in transition and dropout prevention activities, postsecondary education, and employment;

(ii) The current research on the use of adult learning principles and implementation science to inform the proposed TA; and

(iii) How the proposed project will incorporate current research and evidence-based and promising practices and strategies in the development and delivery of its products and services;

(5) Develop products, create training modules, and hold meetings to encourage collaborative activities between transition services providers;

(6) Provide TA that is of high quality and sufficient intensity and duration to achieve the intended outcomes of the proposed project. To address this requirement, the applicant must describe—

(i) How it proposes to identify or develop the knowledge base on supporting students to stay in school, receive effective transition and VR services, and be prepared for postsecondary education and employment;

(ii) Its proposed approach to universal, general TA,³ which must identify the intended recipients of the products and services under this approach;

³ “Universal, general TA” means TA and information provided to independent users through their own initiative, resulting in minimal interaction with TA center staff and including one-time, invited or offered conference presentations by TA center staff. This category of TA also includes information or products, such as newsletters, guidebooks, or research syntheses, downloaded from the TA center's Web site by independent users. Brief communications by TA center staff with recipients, either by telephone or email, are also considered universal, general TA.

(iii) Its proposed approach to targeted, specialized TA,⁴ which must identify—

⁴ “Targeted, specialized TA” means TA service based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients of the products and services under this approach; and

(B) Its proposed approach to measure the readiness of potential TA recipients to work with the project, assessing, at a minimum, their current infrastructure, available resources, and ability to build capacity at the local level; and

(iv) Its proposed approach to intensive, sustained TA,⁵ which must identify—

⁵ “Intensive, sustained TA” means TA services often provided onsite and requiring a stable, ongoing relationship between the TA center staff and the TA recipient. “TA services” are defined as negotiated series of activities designed to reach a valued outcome. This category of TA should result in changes to policy, program, practice, or operations that support increased recipient capacity or improved outcomes at one or more systems levels.

(A) The intended recipients of the products and services under this approach;

(B) Its proposed approach to measure the readiness of SEAs, LEAs, State VR agencies, and other VR service providers to work with the project, including their commitment to the initiative, alignment of the initiative to their needs, current infrastructure, available resources, and ability to build capacity at the local, district, or State level;

(C) Its proposed plan for assisting SEAs, LEAs, State VR agencies, and other VR service providers to build training systems that include professional development based on adult learning principles and coaching;

(D) Its proposed plan to provide TA to SEAs that are using the State Toolkit for Examining Post School Success (STEPSS; for further information, please see the following Web site: http://www.psocenter.org/);

(E) Its proposed plan to identify and disseminate effective practices and strategies used by States with approved Elementary and Secondary Education Act of 1965 (ESEA) Flexibility Requests to ensure that students with disabilities graduate from high school with the knowledge and skills needed for success in postsecondary education and employment;

(F) Its proposed plan for working with SEAs, LEAs, State VR agencies, other VR service providers, families, and other relevant personnel at the State and local levels (e.g., regional TA providers, school districts, schools, transition coordinators, VR counselors, guidance counselors, career and technical education educators, Department of Labor personnel, health and human services personnel, private industry, dropout prevention specialists, and postsecondary education professionals) to ensure that there is communication between each level and that there are systems in place to support the transition of students with disabilities from school to postsecondary education and employment;

(G) Its proposed plan for collaborating and coordinating with RSA TA investments, where appropriate, in order to align complementary work and jointly develop and implement products and services to ensure the successful transition of youth with disabilities who have IEPs; and

(H) Its proposed plan for collaborating and coordinating with the Office of Elementary and Secondary Education's (OESE's) College and Career Readiness and Success Center;

(7) Develop products and implement services that maximize efficiency. To address this requirement, the applicant must describe—

(i) How the proposed project will use technology to achieve the intended project outcomes;

(ii) With whom the proposed project will collaborate and the intended outcomes of this collaboration; and

(iii) How the proposed project will use non-project resources to achieve the intended project outcomes.

(c) In the narrative section of the application under “Quality of the Evaluation Plan,” include an evaluation plan for the project as described in the following paragraphs. The evaluation plan must describe: Measures of progress in implementation, including the extent to which the project's products and services have reached its target population; and measures of intended outcomes or results of the project's activities in order to assess the effectiveness of those activities.

In designing the evaluation plan, the project must—

(1) Designate, with the approval of the OSEP project officer, a project liaison staff person with sufficient dedicated time, experience in evaluation, and knowledge of the project to work in collaboration with the Center to Improve Project Performance (CIPP),⁶ the project director, and the OSEP project officer on the following tasks:

⁶ The major tasks of CIPP are to guide, coordinate, and oversee the design of formative evaluations for every large discretionary investment (i.e., those awarded $500,000 or more per year and required to participate in the 3+2 process) in OSEP's Technical Assistance and Dissemination; Personnel Development; Parent Training and Information Centers; and Educational Technology, Media, and Materials programs. The efforts of CIPP are expected to enhance individual project evaluation plans by providing expert and unbiased TA in designing the evaluations with due consideration of the project's budget. CIPP does not function as a third-party evaluator.

(i) Revise, as needed, the logic model submitted in the grant application to provide for a more comprehensive measurement of implementation and outcomes and to reflect any changes or clarifications to the model discussed at the kick-off meeting;

(ii) Refine the evaluation design and instrumentation proposed in the grant application consistent with the logic model (e.g., preparing evaluation questions about significant program processes and outcomes, developing quantitative or qualitative data collections that permit both the collection of progress data, including fidelity of implementation, as appropriate, and the assessment of effectiveness, selecting respondent samples if appropriate, designing instruments or identifying data sources, and identifying analytic strategies); and

(iii) Revise, as needed, the evaluation plan submitted in the grant application such that it clearly—

(A) Specifies the measures and associated instruments or sources for data appropriate to the evaluation questions, suggests analytic strategies for those data, provides a timeline for conducting the evaluation, and includes staff assignments for completion of the plan;

(B) Delineates the data expected to be available by the end of the second project year for use during the project's intensive review for continued funding described under the heading Fourth and Fifth Years of the Project; and

(C) Can be used to assist the project director and the OSEP project officer, with the assistance of CIPP, as needed, to specify the performance measures to be addressed in the project's Annual Performance Report;

(2) Cooperate with CIPP staff in order to accomplish the tasks described in paragraph (1) of this section; and

(3) Dedicate sufficient funds in each budget year to cover the costs of carrying out the tasks described in paragraphs (1) and (2) of this section and implementing the evaluation plan.

(d) Demonstrate, in the narrative section of the application under “Adequacy of Project Resources,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities; and

(4) The proposed costs are reasonable in relation to the anticipated results and benefits.

(e) Demonstrate, in the narrative section of the application under “Quality of the Management Plan,” how—

(1) The proposed management plan will ensure that the project's intended outcomes will be achieved on time and within budget. To address this requirement, the applicant must describe—

(i) Clearly defined responsibilities for key project personnel, consultants, and subcontractors, as appropriate; and

(ii) Timelines and milestones for accomplishing the project tasks;

(2) Key project personnel and any consultants and subcontractors will be allocated to the project and how these allocations are appropriate and adequate to achieve the project's intended outcomes;

(3) The proposed management plan will ensure that the products and services provided are of high quality; and

(4) The proposed project will benefit from a diversity of perspectives, including families, health and human services providers, transition specialists, career and technical education professionals, school guidance counselors, postsecondary education professionals, VR counselors, private industry, TA providers, researchers, and policy makers, among others, in its development and operation.

(f) Address the following application requirements. The applicant must—

(1) Include in Appendix A a logic model that depicts, at a minimum, the goals, activities, outputs, and intended outcomes of the proposed project. A logic model communicates how a project will achieve its intended outcomes and provides a framework for both the formative and summative evaluations of the project.

Note: The following Web sites provide more information on logic models: www.researchutilization.org/matrix/logicmodel_resource3c.html and www.tadnet.org/pages/589;

(2) Include in Appendix A a conceptual framework for the project;

(3) Include in Appendix A person-loading charts and timelines, as applicable, to illustrate the management plan described in the narrative;

(4) Include in the proposed project the following activities:

(i) Developing products, training modules, and holding meetings to encourage collaborative activities between transition services providers;

(ii) Collaborating and coordinating with RSA TA investments, where appropriate, in order to align complementary work and jointly develop and implement products and services to ensure the successful transition of youth with disabilities who have IEPs to postsecondary education and employment;

(iii) Implementing practices and strategies that ensure that students with disabilities, including those with significant disabilities, receive VR services from State VR agencies and other VR service providers when necessary and appropriate;

(iv) Providing TA to SEAs, LEAs, State VR agencies, and other VR service providers on working with businesses and agencies in developing paid internships and structured career-related experiences, including supported or customized employment experiences, job shadowing, community-based activities, and industry certifications;

(5) Include in the budget attendance at the following:

(i) A one and one-half day kick-off meeting in Washington, DC, after receipt of the award, and an annual planning meeting in Washington, DC, with the OSEP project officer and other relevant staff during each subsequent year of the project period.

Note: Within 30 days of receipt of the award, a post-award teleconference must be held between the OSEP project officer and the grantee's project director or other authorized representative;

(ii) A two and one-half day project directors' conference in Washington, DC, during each year of the project period;

(iii) Two, two-day trips annually to attend Department briefings, Department-sponsored conferences, and other meetings, as requested by OSEP; and

(iv) A one-day intensive review meeting in Washington, DC, during the last half of the second year of the project period;

(6) Include in the budget a line item for an annual set-aside of five percent of the grant amount to support emerging needs that are consistent with the proposed project's intended outcomes, as those needs are identified in consultation with OSEP and RSA.

Note: With approval from the OSEP and RSA project officers, the project must reallocate any remaining funds from this annual set-aside no later than the end of the third quarter of each budget period; and

(7) Maintain a Web site that meets government or industry-recognized standards for accessibility.

Fourth and Fifth Years of the Project: In deciding whether to continue funding the project for the fourth and fifth years, the Secretary will consider the requirements of 34 CFR 75.253(a), as well as—

(a) The recommendation of a review team consisting of experts selected by the Secretary. This review will be conducted by OSEP and RSA during a one-day intensive meeting that will be held during the last half of the second year of the project period;

(b) The timeliness and effectiveness with which all requirements of the negotiated cooperative agreement have been or are being met by the project; and

(c) The quality, relevance, and usefulness of the project's products and services and the extent to which the project's products and services are aligned with the project's objectives and likely to result in the project achieving its intended outcomes.

References:

Adelman, C. (2006). The toolbox revisited: Paths to degree completion from high school through college. Washington, DC: U.S. Department of Education. Retrieved from www.ed.gov/rschstat/research/pubs/toolboxrevisit/toolbox.pdf.

Balfanz, R., Herzog, L., & Mac Iver, D. J. (2007). Preventing student disengagement and keeping students on the graduation path in urban middle-grades schools: Early identification and effective interventions. Educational Psychologist, 42(4), 223-235.

Cobb, R. B. & Alwell, M. (2009). Transition planning/coordinating interventions for youth with disabilities: A systematic review. Career Development for Exceptional Individuals, 32, 70-81.

College Board. (2010). The 6th Annual AP report to the nation. Retrieved from www.collegeboard.com/html/aprtn/pdf/ap_report_to_the_nation.pdf.

Fixsen, D. L., Naoom, S. F., Blase, K. A., Friedman, R. M., & Wallace, F. (2005). Implementation research: A synthesis of the literature (FMHI Publication #231). Tampa, FL: University of South Florida, Louis de la Parte Florida Mental Health Institute, The National Implementation Research Network. Retrieved from http://ctndisseminationlibrary.org/PDF/nirnmonograph.pdf.

Karp, M. M., Calcagno, J. C., Hughes, K. L., Jeong, D. W., & Bailey, T. R. (2007). The postsecondary achievement of participants in dual enrollment: An analysis of student outcomes in two states. St. Paul, MN: National Research Center for Career and Technical Education, University of Minnesota. Retrieved from http://ccrc.tc.columbia.edu/media/k2/attachments/dual-enrollment-student-outcomes.pdf.

Klingner, J., Boardman, A., & McMaster, K. (2013). What does it take to scale up and sustain evidence-based practices? Exceptional Children, 79(2), 195-211.

Landmark, L. J., Ju, S., & Zhang, D. (2010). Substantiated best practices in transition: Fifteen plus years later. Career Development for Exceptional Individuals, 33, 165-176.

Losen, D. J., & Skiba, R. J. (2010). Suspended education: Urban middle schools in crisis. Montgomery, AL: Southern Poverty Law Center. Retrieved from www.splcenter.org/get-informed/publications/suspended-education.

National Alliance for Secondary Education and Transition (NASET). (2005). National standards and quality indicators. Retrieved from www.nasetalliance.org/about/standards.htm.

National Council on Disability. (2008). Rehabilitation Act: Outcomes for transition-age youth. Retrieved from www.ncd.gov/publications/2008/10282008.

Newman, L., Wagner, M., Cameto, R., Knokey, A.-M., & Shaver, D. (2010). Comparisons across time of the outcomes of youth with disabilities up to 4 years after high school. A report of findings from the National Longitudinal Transition Study (NLTS) and the National Longitudinal Transition Study-2 (NLTS2) (NCSER 2010-3008). Menlo Park, CA: SRI International. Retrieved from http://ies.ed.gov/pubsearch/pubsinfo.asp?pubid=NCSER20103008.

Pearson, D., Sawyer, J., Park, T., Santamaria, L., van der Mandele, S., Keene, B., & Taylor, M. (2010). Capitalizing on context: Curriculum integration in career and technical education. Louisville, KY: National Research Center for Career and Technical Education, University of Louisville. Retrieved from www.nrccte.org/sites/default/files/publication-files/nrccte_curriculum_context.pdf.

Sanford, C., Newman, L., Wagner, M., Cameto, R., Knokey, A.-M., & Shaver, D. (2011). The post-high school outcomes of young adults with disabilities up to 6 years after high school. Key findings from the national longitudinal transition study-2 (NLTS-2) (NCSER 2011-3004). Menlo Park, CA: SRI International. Retrieved from www.nlts2.org/reports/2011_09/nlts2_report_2011_09_complete.pdf.

Stone, J., Alfeld, C., Pearson, D., Lewis, M., & Jensen, S. (2006). Building academic skills in context: Testing the value of enhanced math learning in CTE (Final study). St. Paul, MN: National Research Center for Career and Technical Education. University of Minnesota. Retrieved from www.nrccte.org/sites/default/files/publication-files/mathlearningfinalstudy.pdf.

Test, D., Fowler, C., Richter, S.M., White, J., Mazzotti, V., Walker, A. R., Kohler, P., & Kortering, L. (2009). Evidence-based practices in secondary transition. Career Development for Exceptional Individuals, 32(2), 115-128.

Test, D. W., Mazzotti, V. L., Mustian, A. L., Fowler, C. H., Kortering, L. J., & Kohler, P. H. (2009). Evidence-based secondary transition predictors for improving post-school outcomes for students with disabilities. Career Development for Exceptional Individuals, 32, 160-181.

Tierney, W. G., Bailey, T., Constantine, J., Finkelstein, N., & Hurd, N. F. (2009). Helping students navigate the path to college: What high schools can do: A practice guide (NCEE #2009-4066). Washington, DC: National Center for Education Evaluation and Regional Assistance, Institute of Education Sciences, U.S. Department of Education. Retrieved from http://ies.ed.gov/ncee/wwc/pdf/practice_guides/higher_ed_pg_091509.pdf.

U.S. Census Bureau. (2010). Survey of Income and Program Participation, May-August 2010.

U.S. Department of Education. (2013). Consolidated State Performance Report, 2011-12. Retrieved from http://www2.ed.gov/admins/lead/account/consolidated/index.html.

U.S. Department of Labor, Bureau of Labor Statistics. (2013). Persons with a disability: Labor force characteristics summary. Retrieved from www.bls.gov/news.release/disabl.nr0.htm.

U.S. Government Accountability Office. (July 12, 2012). Students with Disabilities: Better Federal Coordination Could Lessen Challenges in the Transition from High School (GAO-12-594). Washington, DC: Government Printing Office.

Wagner, M., Newman, L., Cameto, R., Garza, N., & Levine, P. (2005). After High School: A First Look at the Postschool Experiences of Youth with Disabilities. A Report from the National Longitudinal Transition Study-2 (NLTS2). Menlo Park, CA: SRI International. Retrieved from www.nlts2.org/reports/2005_04/nlts2_report_2005_04_complete.pdf.

Wagner, M., Newman, L., Cameto, R., & Levine, P. (2006). The academic achievement and functional performance of youth with disabilities: A report from the national longitudinal transition study-2 (NLTS2). (NCSER 2006-3000). Menlo Park, CA: SRI International. Retrieved from www.nlts2.org/reports/2006_07/nlts2_report_2006_07_complete.pdf.

Wagner, M., Newman, L., Cameto, R., Levine, P., & Garza, N. (2006). An overview of findings from wave 2 of the National Longitudinal Transition Study-2 (NLTS2) (NCSER 2006-3004). Menlo Park, CA: SRI. Retrieved from http://ies.ed.gov/ncser/pubs/20063004/.

Waiver of Proposed Rulemaking:

Under the Administrative Procedure Act (APA) (5 U.S.C. 553), the Department generally offers interested parties the opportunity to comment on proposed priorities and requirements. Section 681(d) of IDEA, however, makes the public comment requirements of the APA inapplicable to the priority in this notice.

Program Authority: 20 U.S.C. 1463 and 1481, 29 U.S.C. 773.

Applicable Regulations:

(a) The Education Department General Administrative Regulations (EDGAR) in 34 CFR parts 74, 75, 77, 79, 81, 82, 84, 86, 97, 98, 99. (b) The Education Department debarment and suspension regulations in 2 CFR part 3485. (c) The regulations for this program in 34 CFR part 373.

Note: The regulations in 34 CFR part 79 apply to all applicants except federally recognized Indian tribes.

Note: The regulations in 34 CFR part 86 apply to institutions of higher education (IHEs) only.

II. Award Information

Type of Award: Cooperative agreement.

Estimated Available Funds: $2,500,000.

Contingent upon the availability of funds and the quality of applications, we may make additional awards in FY 2015 from the list of unfunded applicants from this competition.

Estimated Range of Awards: $2,500,000 per year.

Estimated Average Size of Awards: $2,500,000 per year.

Maximum Award: We will reject any application that proposes a budget exceeding $2,500,000 for a single budget period of 12 months. The Assistant Secretary for Special Education and Rehabilitative Services may change the maximum amount through a notice published in the Federal Register.

Estimated Number of Awards: 1.

Note: The Department is not bound by any estimates in this notice.

Project Period: Up to 36 months with an optional additional 24 months based on performance. Applications must include plans for both the 36-month award and the 24-month extension.

III. Eligibility Information

1. Eligible Applicants: SEAs; LEAs, including public charter schools that are considered LEAs under State law; State VR agencies; IHEs; other public agencies; private nonprofit organizations; outlying areas; freely associated States; Indian tribes or tribal organizations; and for-profit organizations.

2. Cost Sharing or Matching: This program does not require cost sharing or matching.

3. Other General Requirements:

(a) Recipients of funding under this program must make positive efforts to employ and advance in employment qualified individuals with disabilities (see section 606 of IDEA).

(b) Each applicant for, and recipient of, funding under this program must involve individuals with disabilities, or parents of individuals with disabilities ages birth through 26, in planning, implementing, and evaluating the project (see section 682(a)(1)(A) of IDEA).

IV. Application and Submission Information

1. Address to Request Application Package: You can obtain an application package via the Internet or from the Education Publications Center (ED Pubs). To obtain a copy via the Internet, use the following address: www.ed.gov/fund/grant/apply/grantapps/index.html. To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application from ED Pubs, be sure to identify this competition as follows: CFDA number 84.326E.

Individuals with disabilities can obtain a copy of the application package in an accessible format (e.g., braille, large print, audiotape, or compact disc) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit Part III to no more than 70 pages, using the following standards:

• A “page” is 8.5′ x 11′, on one side only, with 1′ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial. An application submitted in any other font (including Times Roman or Arial Narrow) will not be accepted.

The page limit and double-spacing requirement does not apply to Part I, the cover sheet; Part II, the budget section, including the narrative budget justification; Part IV, the assurances and certifications; or the abstract (follow the guidance provided in the application package for completing the abstract), the table of contents, the list of priority requirements, the resumes, the reference list, the letters of support, or the appendices. However, the page limit and double-spacing requirement does apply to all of Part III, the application narrative, including all text in charts, tables, figures, graphs, and screen shots.

We will reject your application if you exceed the page limit in the application narrative section; or if you apply standards other than those specified in the application package.

3. Submission Dates and Times: Applications Available: July 2, 2014.

Deadline for Transmittal of Applications: August 18, 2014.

Applications for grants under this competition must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

4. Intergovernmental Review: This program is subject to Executive Order 12372 and the regulations in 34 CFR part 79. However, under 34 CFR 79.8(a), we waive the intergovernmental review in order to make an award by the end of FY 2014.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one to two business days.

If you are a corporate entity, agency, institution, or organization, you can obtain a TIN from the Internal Revenue Service. If you are an individual, you can obtain a TIN from the Internal Revenue Service or the Social Security Administration. If you need a new TIN, please allow 2-5 weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov and before you can submit an application through Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: http://www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this competition must be submitted electronically unless you qualify for an exception to this requirement in accordance with the instructions in this section.

a. Electronic Submission of Applications.

Applications for grants under the National Technical Assistance Center on Improving Transition to Postsecondary Education and Employment for Students with Disabilities competition, CFDA number 84.326E, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the National Technical Assistance Center on Improving Transition to Postsecondary Education and Employment for Students with Disabilities competition at www.Grants.gov. You must search for the downloadable application package for this competition by the CFDA number. Do not include the CFDA number's alpha suffix in your search (e.g., search for 84.326, not 84.326E).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material. Additional, detailed information on how to attach files is in the application instructions.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Selete Avoke, U.S. Department of Education, 400 Maryland Avenue SW., Room 4158, Potomac Center Plaza (PCP), Washington, DC 20202-2600. FAX: (202) 245-7617.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.326E), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.326E), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that, for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under the Government Performance and Results Act of 1993 (GPRA), the Department has established a set of performance measures, including long-term measures, that are designed to yield information on various aspects of the effectiveness and quality of the Technical Assistance and Dissemination to Improve Services and Results for Children with Disabilities program. These measures focus on the extent to which projects provide high-quality products and services, the relevance of project products and services to educational and early intervention policy and practice, and the use of products and services to improve educational and early intervention policy and practice. Projects funded under this competition are required to submit data on these measures as directed by OSEP.

Grantees will be required to report information on their project's performance in annual and final performance reports to the Department (34 CFR 75.590).

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Selete Avoke, U.S. Department of Education, 400 Maryland Avenue SW., Room 4158, PCP, Washington, DC 20202-2600. Telephone: (202) 245-7260.

If you use a TDD or a TTY, call the Federal Relay Service (FRS), toll free, at 1-800-877-8339.

VIII. Other Information

Accessible Format: Individuals with disabilities can obtain this document and a copy of the application package in an accessible format (e.g., braille, large print, audiotape, or compact disc) by contacting the Grants and Contracts Services Team, U.S. Department of Education, 400 Maryland Avenue SW., Room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: June 26, 2014.
Michael K. Yudin,
Acting Assistant Secretary for Special Education and Rehabilitative Services.

[FR Doc. 2014-15437 Filed 7-1-14; 8:45 am]

BILLING CODE 4000-01-P